DEPARTMENT OF AGRICULTURE

Office of Partnerships and Public Engagement

[FOA No.: OPPE-015]

Funding Opportunity Announcement—Solicitation for Applications To Assist Persistent Poverty Farmers, Ranchers, Agriculture Producers and Communities Through Agriculture Resources, Correction

AGENCY: Office of Partnerships and Public Engagement (OPPE), Agriculture (USDA).

ACTION: Funding Opportunity Announcement (FOA).

SUMMARY: OPPE published a document in the Federal Register of July 10, 2020, concerning the availability of funds and solicits applications from community-based and non-profit organizations, institutions of higher education, and Tribal entities to compete for financial assistance through the Outreach and Assistance for Socially Disadvantaged Farmers and Ranchers and Veteran Farmers and Ranchers Program (hereinafter referred to as the “2501 Program”) and the Soil and Water Conservation Program. The language is being revised to reflect eligible beneficiaries.

FOR FURTHER INFORMATION CONTACT: Jacqueline Davis-Slay, Deputy Director, Jamie L. Whitten Building, Room 520-A, 1400 Independence Avenue SW, Washington, DC 20250; Phone: (202) 720-6350; Fax: (202) 720-7704; Email: CommunityProsperity@usda.gov.

SUPPLEMENTARY INFORMATION: In the Federal Register of July 10, 2020, in FR Doc. 2020-14325, on page 41516, make the following corrections:

1. On page 41516, in the second column, correct the second and third sentences of the SUMMARY to read as follows: “Funding will be made available for the purpose of leveraging USDA, state, local and private sector resources, to address local agricultural and natural resource issues, encourage collaboration and to develop state and local leadership and partnerships to assist limited resource socially disadvantaged, socially disadvantaged and veteran farmers, ranchers, agricultural producers and communities through agriculture industries. The eligible entities will provide technical assistance to persistent poverty communities, with emphasis on socially disadvantaged and/or veteran farmers, ranchers and agricultural producers to assist them in establishing a local working leaders group, identifying issues, challenges and assets, preparing a plan of action and identifying resources and means to address and accomplish results through available programmatic services and opportunities.”

2. On page 41517, in the first column, replace the sentence “Higher consideration will be given to socially disadvantaged, limited resource, beginning, or veteran farmer or rancher servicing legal entities, or joint operations according to the definition in the Agriculture Improvement Act of 2018.” with “Only consideration will be given to socially disadvantaged limited resource, beginning, or veteran farmer or rancher servicing legal entities, or joint operations according to the definition in the Agriculture Improvement Act of 2018.”

Signed July 23, 2020.
Jacqueline Davis-Slay,
Deputy Director, Office of Partnerships and Public Engagement.

[FR Doc. 2020-16398 Filed 8-6-20; 8:45 am]

BILLING CODE 3412-89-P